DEPARTMENT OF ENERGY

Federal Energy Regulatory Commission

Combined Notice of Filings

Take notice that the Commission has received the following Natural Gas Pipeline Rate and Refund Report filings:

Filings Instituting Proceedings

Docket Numbers: RP18-196-000.

Applicants: Alliance Pipeline L.P.

Description: Alliance Pipeline L.P. submits tariff filing per 154.204: Hess Usage Charge 2018 to be effective 1/1/2018.

Filed Date: 11/29/17.

Accession Number: 20171129-5065.

Comments Due: 5 p.m. ET 12/11/17.

Docket Numbers: RP18-197-000.

Applicants: Southern Natural Gas Company, L.L.C.

Description: Southern Natural Gas Company, L.L.C. submits tariff filing per 154.204: SCRM Filing Nov 2017 to be effective 1/1/2018.

Filed Date: 11/29/17.

Accession Number: 20171129-5066.

Comments Due: 5 p.m. ET 12/11/17.

Docket Numbers: RP18-198-000.

Applicants: El Paso Natural Gas Company, L.L.C.

Description: El Paso Natural Gas Company, L.L.C. submits tariff filing per 154.204: Article 11.2(a) Inflation Adjustment Filing 2018 to be effective 1/1/2018.

Filed Date: 11/29/17.

Accession Number: 20171129-5087.

Comments Due: 5 p.m. ET 12/11/17.

Docket Numbers: RP18-199-000.

Applicants: El Paso Natural Gas Company, L.L.C.

Description: El Paso Natural Gas Company, L.L.C. submits tariff filing per 154.403(d)(2): Annual Fuel and L&U Filing 2018 to be effective 1/1/2018.

Filed Date: 11/29/17.

Accession Number: 20171129-5091.

Comments Due: 5 p.m. ET 12/11/17.

Docket Numbers: RP18-200-000.

Applicants: Chandeleur Pipe Line, LLC.

Description: Fuel and Line Loss Allowance Calculation filing of Chandeleur Pipe Line, LLC under RP18-200.

Filed Date: 11/29/17.

Accession Number: 20171129-5100.

Comments Due: 5 p.m. ET 12/11/17.

Docket Numbers: RP18-201-000.

Applicants: TransColorado Gas Transmission Company L.

Description: TransColorado Gas Transmission Company LLC submits tariff filing per 154.204: Transportation Service Agreement Filing (Hilcorp) to be effective 11/1/2017.

Filed Date: 11/29/17.

Accession Number: 20171129-5128.

Comments Due: 5 p.m. ET 12/11/17.

Docket Number: RP18-202-000.

Applicants: Equitrans, L.P.

Description: Equitrans, L.P. submits tariff filing per 154.204: Remove Expired Negotiated Rate Agreements to be effective 12/1/2017.

Filed Date: 11/30/2017.

Accession Number: 20171130-5026.

Comments Due: 5 p.m. ET 12/12/17.

Docket Numbers: RP17-197-007.

Applicants: Dominion Energy Cove Point LNG, LP.

Description: Compliance filing DECP—RP17-197 Settlement Compliance to be effective 6/1/2017.

Filed Date: 11/29/17.

Accession Number: 20171129-5101.

Comments Due: 5 p.m. ET 12/11/17.

Docket Numbers: RP18-1-001.

Applicants: American Midstream (AlaTenn), LLC.

Description: Compliance filing American Midstream (AlaTenn), LLC Compliance Filing to be effective 11/2/2017.

Filed Date: 11/29/17.

Accession Number: 20171129-5118.

Comments Due: 5 p.m. ET 12/11/17.

Docket Numbers: RP18-203-000.

Applicants: Transcontinental Gas Pipe Line Company.

Description: Transcontinental Gas Pipe Line Company, LLC submits tariff filing per 154.403: Rate Schedule S-2 Tracker Filing eff. 12/1/2017.

Filed Date: 11/30/17.

Accession Number: 20171130-5027.

Comments Due: 5 p.m. ET 12/12/17.

Docket Numbers: RP18-204-000.

Applicants: MarkWest Pioneer, L.L.C.

Description: MarkWest Pioneer, L.L.C. submits tariff filing per 154.403(d)(2): Quarterly FRP Filing to be effective 1/1/2018.

Filed Date: 11/30/17.

Accession Number: 20171130-5029.

Comments Due: 5 p.m. ET 12/12/17.

Docket Numbers: RP18-205-000.

Applicants: Equitrans, L.P.

Description: Equitrans, L.P. submits tariff filing per 154.601: Negotiated Rate Service Agreement—EQT Energy Del Point Change to be effective 12/1/201.

Filed Date: 11/30/17.

Accession Number: 20171130-5039.

Comments Due: 5 p.m. ET 12/12/17.

Docket Numbers: RP18-206-000.

Applicants: Dominion Energy Questar Pipeline, LLC.

Description: Dominion Energy Questar Pipeline, LLC submits tariff filing per 154.204: Feul Gas Reimbursement Percentage for 2018 to be effective 1/1/2018.

Filed Date: 11/30/17.

Accession Number: 20171130-5050.

Comments Due: 5 p.m. ET 12/12/17.

Docket Numbers: RP18-207-000.

Applicants: Transcontinental Gas Pipe Line Company.

Description: Transcontinental Gas Pipe Line Company, LLC submits tariff filing per 154.204: Negotiated Rates—Virginia Southside I—AMENDMENT to be effective 12/1/2017.

Filed Date: 11/30/17.

Accession Number: 20171130-5052.

Comments Due: 5 p.m. ET 12/12/17.

Docket Numbers: RP18-208-000.

Applicants: Kern River Gas Transmission Company.

Description: Kern River Gas Transmission Company submits tariff filing per 154.204: 2017 December Negotiated Rates to be effective 12/1/2017.

Filed Date: 11/30/17.

Accession Number: 20171130-5060.

Comments Due: 5 p.m. ET 12/12/17.

Docket Numbers: RP18-209-000.

Applicants: Ruby Pipeline, L.L.C.

Description: Ruby Pipeline, L.L.C. submits tariff filing per 154.403(d)(2): FLU and EPC Update Filing to be effective 1/1/2018.

Filed Date: 11/30/17.

Accession Number: 20171130-5087.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 30, 2017.
Nathaniel J. Davis, Sr.,
Deputy Secretary.

[FR Doc. 2017-26242 Filed 12-5-17; 8:45 am]

BILLING CODE 6717-01-P